NATIONAL SCIENCE FOUNDATION

Advisory Committee for Engineering; Notice of Meeting

In accordance with the Federal Advisory Committee Act (Pub. L. 92-463, as amended), the National Science Foundation (NSF) announces the following meeting:

Name and Committee Code: Advisory Committee for Engineering #1170.

Date and Time: April 6, 2022: 11:00 a.m. to 6:00 p.m.; April 7, 2022: 10:30 a.m. to 3:15 p.m.

Place: National Science Foundation, 2415 Eisenhower Avenue, Alexandria, Virginia 22314 | Virtual.

Type of Meeting: Open.

Contact Person: Evette Rollins, erollins@nsf.gov; 703-292-8300; NSF 2415 Eisenhower Avenue, Alexandria, VA 22314.

The forthcoming virtual meeting information and an updated agenda will be posted at https://www.nsf.gov/eng/advisory.jsp.

Purpose of Meeting: To provide advice, recommendations and counsel on major goals and policies pertaining to engineering programs and activities.

Agenda

Wednesday, April 6, 2022

• Directorate for Engineering Report

• NSF Budget Update

• NSF Strategic Plan

• ENG Strategic Planning

• Reports from Advisory Committee Liaisons

Thursday, April 7, 2022

• Diversity in Engineering: Current Data Trends

• Panel and Discussion on Diversity in Engineering

• Preparation for Discussion with the Director's Office

• Prospective from the Director's Office

• Strategic Recommendations for ENG

Dated: March 1, 2022.
Crystal Robinson,
Committee Management Officer.

[FR Doc. 2022-04700 Filed 3-4-22; 8:45 am]

BILLING CODE 7555-01-P